DEPARTMENT OF HOMELAND SECURITY

Federal Emergency Management Agency

[Docket ID FEMA-2017-0017; OMB No. 1660-0135]

Agency Information Collection Activities: Submission for OMB Review; Comment Request; Staffing for Adequate Fire and Emergency Response (SAFER) Grants

AGENCY: Federal Emergency Management Agency, DHS.

ACTION: Notice and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before August 24, 2017.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Director, Records Management Division, 500 C Street SW., Washington, DC 20472-3100, or email address FEMA-Information-Collections-Management@fema.dhs.gov. Or, William Dunham, Fire Program Specialist, FEMA, Grant Program Directorate, 202-786-9813.

SUPPLEMENTARY INFORMATION: This proposed information collection previously published in the Federal Register on May 12, 2017 at 82 FR 22150 with a 60-day public comment period. FEMA received two positive comments supporting FEMA's effort to continue SAFER grants for both fire departments and the communities they serve, but one provided a caveat to streamline the process. FEMA's response is that the Program Office is working towards this goal. FEMA received one comment that application material were difficult to locate at this time. FEMA's response is that the materials are only available during the application period, applicants are notified well ahead of time through the Notice of Funding Opportunity of these dates. The purpose of this notice is to notify the public that FEMA will submit the information collection abstracted below to the Office of Management and Budget for review and clearance.

Collection of Information

Title: Staffing for Adequate Fire and Emergency Response (SAFER) Grants.

Type of Information Collection: Revision of a currently approved information collection.

OMB Number: 1660-0135.

Form Titles and Numbers: FEMA Form 080-0-4, Staffing for Adequate Fire and Emergency Response (SAFER) (General Questions All Applicants); FEMA Form 080-0-4a, Staffing for Adequate Fire and Emergency Response Hiring of Firefighters Application (Questions and Narrative); FEMA Form 080-0-4b, Staffing for Adequate Fire and Emergency Response Recruitment and Retention of Volunteer Firefighters Application (Questions and Narrative); FEMA Form 087-0-0-2, Staffing for Adequate Fire and Emergency Response Quarterly Report and Payment Request Form.

Abstract: FEMA uses this information to ensure that FEMA's responsibilities under the legislation can be fulfilled accurately and efficiently. The information will be used to objectively evaluate each of the anticipated applicants to determine which of the applicants' proposals in each of the activities are the closest to the established program priorities.

Affected Public: State, Local or Tribal Government; Not-for-Profit Institutions.

Estimated Number of Respondents: 2,330.

Estimated Number of Responses: 2,990.

Estimated Total Annual Burden Hours: 18,064 hours.

Estimated Total Annual Respondent Cost: $984,437.20.

Estimated Respondents' Operation and Maintenance Costs: None.

Estimated Respondents' Capital and Start-Up Costs: None.

Estimated Total Annual Cost to the Federal Government: $1,666,213.80.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: July 19, 2017.
Tammi Hines,
Acting Records Management Program Chief, Mission Support, Federal Emergency Management Agency, Department of Homeland Security.

[FR Doc. 2017-15576 Filed 7-24-17; 8:45 am]

BILLING CODE 9111-46-P